DEPARTMENT OF TRANSPORTATION

Federal Aviation Administration

14 CFR Part 39

[Docket No. FAA-2020-1105; Project Identifier MCAI-2020-01459-T; Amendment 39-21345; AD 2020-25-03]

RIN 2120-AA64

Airworthiness Directives; Airbus SAS Airplanes

AGENCY: Federal Aviation Administration (FAA), DOT.

ACTION: Final rule; request for comments.

SUMMARY: The FAA is superseding Airworthiness Directive (AD) 2020-01-17, which applied to all Airbus SAS Model A318, A319, A320, and A321 series airplanes. AD 2020-01-17 required repetitive checks of the pressure gauges on the inflation reservoir of each emergency escape slide/raft to determine the amount of pressure and, depending on findings, accomplishment of applicable corrective actions. This AD retains the requirements of AD 2020-01-17, expands the list of affected parts to be checked, and provides optional terminating action for the repetitive checks; as specified in a European Union Aviation Safety Agency (EASA) AD, which is incorporated by reference. This AD was prompted by the determination that certain parts that were not identified in AD 2020-01-17 are also subject to the unsafe condition. The FAA is issuing this AD to address the unsafe condition on these products.

DATES: This AD becomes effective December 28, 2020.

The Director of the Federal Register approved the incorporation by reference of a certain publication listed in this AD as of December 28, 2020.

The Director of the Federal Register approved the incorporation by reference of a certain other publication listed in this AD as of February 14, 2020 (85 FR 5310, January 30, 2020).

The FAA must receive comments on this AD by January 25, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-1105.

Examining the AD Docket

You may examine the AD docket on the internet at https://www.regulations.gov by searching for and locating Docket No. FAA-2020-1105; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Discussion

The FAA issued AD 2020-01-17, Amendment 39-19823 (85 FR 5310, January 30, 2020) (AD 2020-01-17), which applied to all Airbus SAS Model A318, A319, A320, and A321 series airplanes. AD 2020-01-17 required repetitive checks of the pressure gauges on the inflation reservoir of each emergency escape slide/raft to determine the amount of pressure and, depending on findings, accomplishment of applicable corrective actions. The FAA issued AD 2020-01-17 to address insufficient reservoir pressure in an emergency escape slide/raft, which would prevent the deployment of the emergency escape slide/raft during an emergency, possibly resulting in injury to the occupants.

Actions Since AD 2020-01-17 Was Issued

The EASA, which is the Technical Agent for the Member States of the European Union, has issued EASA AD 2020-0236, dated October 27, 2020 (EASA AD 2020-0236) (also referred to as the Mandatory Continuing Airworthiness Information, or the MCAI), to correct an unsafe condition for all Airbus SAS Model A318 series airplanes; Model A319-111, -112, -113, -114, -115, -131, -132, -133, -151N, -153N, and -171N airplanes; Model A320-211, -212, -214, -215, -216, -231, -232, -233, -251N, -252N, -253N, -271N, -272N, and -273N airplanes; and Model A321 series airplanes. Model A319-153N and A320-215 airplanes are not certified by the FAA and are not included on the U.S. type certificate data sheet; this AD therefore does not include those airplanes in the applicability.

This AD was prompted by a report that during airplane boarding a loud bang was heard. A subsequent inspection revealed that one emergency escape slide/raft was found with zero reservoir pressure, due to a burst rupture disk assembly in the inflation reservoir, which was probably caused by a manufacturing defect. This AD was also prompted by the determination that additional parts are subject to the unsafe condition, and by the availability of an optional terminating action for the repetitive checks. The FAA is issuing this AD to address insufficient reservoir pressure in an emergency escape slide/raft, which would prevent the deployment of the emergency escape slide/raft during an emergency, possibly resulting in injury to the occupants. See the MCAI for additional background information.

Related Service Information Under 1 CFR Part 51

EASA AD 2020-0236 describes procedures for repetitive checks of the pressure gauge on the inflation reservoir of each emergency escape slide/slide raft to determine the amount of pressure, and applicable corrective actions. The corrective actions include, among other things, replacement of any affected emergency escape slide/raft or inflation reservoir. EASA AD 2020-0236 also describes procedures for a modification or replacement of affected parts, which would eliminate the need for the repetitive pressure checks.

This AD also requires EASA AD 2019-0316, dated December 23, 2019, which the Director of the Federal Register approved for incorporation by reference as of February 14, 2020 (85 FR 5310, January 30, 2020).

This material is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI referenced above. The FAA is issuing this AD because the FAA has evaluated all pertinent information and determined the unsafe condition exists and is likely to exist or develop on other products of the same type design.

Requirements of This AD

This AD retains the requirements of AD 2020-01-17, and requires accomplishing the actions specified in EASA AD 2020-0236 described previously, as incorporated by reference, except for any differences identified as exceptions in the regulatory text of this AD. Accomplishment of the initial pressure check specified in EASA AD 2020-0236 terminates the requirements of AD 2020-01-17.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0236 is incorporated by reference in this AD. This AD, therefore, requires compliance with EASA AD 2020-0236 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0236 that is required for compliance with EASA AD 2020-0236 is available on the internet at https://www.regulations.gov by searching for and locating Docket No. FAA-2020-1105.

FAA's Justification and Determination of the Effective Date

An unsafe condition exists that requires the immediate adoption of this AD without providing an opportunity for public comments prior to adoption. The FAA has found that the risk to the flying public justifies waiving notice and comment prior to adoption of this rule because if a rupture disk assembly in the inflation reservoir of an emergency escape slide/slide raft burst, it would result in a sudden loss of reservoir pressure and prevent the deployment of the emergency escape slide/raft during an emergency, possibly resulting in injury to the occupants. In addition, the compliance time for the required action is shorter than the time necessary for the public to comment and for publication of the final rule. Therefore, the FAA finds good cause that notice and opportunity for prior public comment are impracticable. In addition, for the reasons stated above, the FAA finds that good cause exists for making this amendment effective in less than 30 days.

Comments Invited

The FAA invites you to send any written relevant data, views, or arguments about this AD. Send your comments to an address under the ADDRESSES section. Include “Docket No. FAA-2020-1105; Project Identifier MCAI-2020-01459-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Sanjay Ralhan, Aerospace Engineer, Large Aircraft Section, International Validation Branch, FAA, 2200 South 216th St., Des Moines, WA 98198; telephone and fax 206-231-3223; email Sanjay.Ralhan@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 1,680 airplanes of U.S. registry. The FAA estimates the following costs to comply with this AD:

Estimated Costs for Required Actions
Labor cost | Parts cost | Cost per product | Cost on U.S. operators
1 work-hour × $85 per hour = $85 | $0 | $85 | $142,800 per check.

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing airworthiness directive (AD) 2020-01-17, Amendment 39-19823 (85 FR 5310, January 30, 2020), and

b. Adding the following new AD:

2020-25-03 Airbus SAS: Amendment 39-21345; Docket No. FAA-2020-1105; Project Identifier MCAI-2020-01459-T.

(a) Effective Date

This airworthiness directive (AD) becomes effective December 28, 2020.

(b) Affected ADs

This AD replaces AD 2020-01-17, Amendment 39-19823 (85 FR 5310, January 30, 2020) (AD 2020-01-17).

(c) Applicability

This AD applies to all Airbus SAS airplanes, certificated in any category, identified in paragraphs (c)(1) through (4) of this AD.

(1) Model A318-111, -112, -121, and -122 airplanes.

(2) Model A319-111, -112, -113, -114, -115, -131, -132, -133, -151N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 25, Equipment/furnishings.

(e) Reason

This AD was prompted by a report that during airplane boarding a loud bang was heard. A subsequent inspection revealed that one emergency escape slide/raft was found with zero reservoir pressure, due to a burst rupture disk assembly in the inflation reservoir, which was probably caused by a manufacturing defect. The FAA is issuing this AD to address insufficient reservoir pressure in an emergency escape slide/raft, which would prevent the deployment of the emergency escape slide/raft during an emergency, possibly resulting in injury to the occupants.

(f) Compliance

Comply with this AD within the compliance times specified, unless already done.

(g) Retained Requirements, With No Changes

This paragraph restates the requirements of paragraph (g) of AD 2020-01-17, with no changes. Except as specified in paragraph (h) of this AD: Comply with all required actions and compliance times specified in, and in accordance with, European Union Aviation Safety Agency (EASA) AD 2019-0316, dated December 23, 2019 (EASA AD 2019-0316).

(h) Retained Exceptions, With No Changes

This paragraph restates the requirements of paragraph (h) of AD 2020-01-17, with no changes.

(1) Where EASA AD 2019-0316 refers to its effective date, this AD requires using February 14, 2020 (the effective date of FAA AD 2020-01-17).

(2) The “Remarks” section of EASA AD 2019-0316 does not apply to this AD.

(3) Where EASA AD 2019-0316 specifies to comply with “the instructions of the AOT,” this AD requires compliance with the procedures marked as required for compliance (RC) in the Alert Operators Transmission (AOT).

(i) New Actions

Except as specified in paragraph (j) of this AD: Comply with all required actions and compliance times specified in, and in accordance with, EASA AD 2020-0236, dated October 27, 2020 (EASA AD 2020-0236). Accomplishment of the initial check, as specified in EASA AD 2020-0236 and required by this paragraph, terminates the requirements of paragraph (g) of this AD.

(j) Exceptions to EASA AD 2020-0236

(1) Where EASA AD 2020-0236 refers to its effective date, this AD requires using the effective date of this AD.

(2) The “Remarks” section of EASA AD 2020-0236 does not apply to this AD.

(k) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (l) of this AD. Information may be emailed to: 9-AVS-AIR-730-AMOC@faa.gov.

(i) Before using any approved AMOC, notify your appropriate principal inspector, or lacking a principal inspector, the manager of the responsible Flight Standards Office.

(ii) AMOCs approved previously for AD 2020-01-17 are approved as AMOCs for the corresponding actions in EASA AD 2020-0236 that are required by paragraph (i) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (k)(2) of this AD, for any service information referenced in EASA AD 2020-0236 that contains RC procedures and tests, those RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

For more information about this AD, contact Sanjay Ralhan, Aerospace Engineer, Large Aircraft Section, International Validation Branch, FAA, 2200 South 216th St., Des Moines, WA 98198; telephone and fax 206-231-3223; email Sanjay.Ralhan@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 28, 2020.

(i) European Union Aviation Safety Agency (EASA) AD 2020-0236, dated October 27, 2020.

(ii) [Reserved]

(4) The following service information was approved for IBR on February 14, 2020 (85 FR 5310, January 30, 2020).

(i) European Union Aviation Safety Agency (EASA) AD 2019-0316, dated December 23, 2019.

(ii) [Reserved]

(5) For EASA ADs, contact the EASA, Konrad-Adenauer-Ufer 3, 50668 Cologne, Germany; telephone +49 221 8999 000; email ADs@easa.europa.eu; internet www.easa.europa.eu. You may find these EASA ADs on the EASA website at https://ad.easa.europa.eu.

(6) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-1105.

(7) You may view this material that is incorporated by reference at the National Archives and Records Administration (NARA). For information on the availability of this material at NARA, email fedreg.legal@nara.gov, or go to: https://www.archives.gov/federal-register/cfr/ibr-locations.html.

Issued on November 30, 2020.
Lance T. Gant,
Director, Compliance & Airworthiness Division, Aircraft Certification Service.

[FR Doc. 2020-27004 Filed 12-9-20; 8:45 am]

BILLING CODE 4910-13-P